LEGAL SERVICES CORPORATION

Notice of Intent To Award—Grant Awards for the Delivery of Civil Legal Services to Eligible Low-Income Clients Beginning January 1, 2021

AGENCY: Legal Services Corporation.

ACTION: Announcement of the Legal Services Corporation's intent to make FY2021 Grant Awards.

SUMMARY: The Legal Services Corporation (LSC) hereby announces its intention to award grants to provide effective and efficient delivery of high-quality civil legal services to eligible low-income clients, starting January 1, 2021.

DATES: All comments and recommendations must be received on or before the close of business on December 7, 2020.

ADDRESSES: Grant Awards, Legal Services Corporation, 3333 K Street NW, Third Floor, Washington, DC 20007.

FOR FURTHER INFORMATION CONTACT: Judith Lee, Grants Program Analyst, Office of Program Performance, at (202) 295-1518 or leej@lsc.gov.

SUPPLEMENTARY INFORMATION: Under LSC's Notice Of Funds Available published on April 7, 2020 (85 FR 19506) and LSC's Grant application process beginning on May 13, 2020, LSC intends to award funds to organizations that provide civil legal services in the indicated service areas. Applicants for each service area are listed below. The grant award amounts below are estimates based on the FY2020 grant awards to each service area. The funding estimates may change based on the final FY2021 appropriation.

LSC will post all updates and changes to this notice at https://www.lsc.gov/grants-grantee-resources/our-grant-programs/basic-field-grant/lsc-notice-intent-award-2021-grant. Interested parties are asked to visit https://www.lsc.gov/grants-grantee-resources/our-grant-programs/basic-field-grant regularly for updates on the LSC grants process.

Name of applicant organization | State | Service area | Estimated Annualized 2021 Funding
Alaska Legal Services Corporation | AK | AK-1 | $922,188
Alaska Legal Services Corporation | AK | NAK-1 | 636,221
Legal Services Alabama, Inc | AL | AL-4 | 6,906,563
Legal Aid of Arkansas, Inc | AR | AR-6 | 1,564,261
Center for Arkansas Legal Services | AR | AR-7 | 2,487,766
American Samoa Legal Aid | AS | AS-1 | 280,626
DNA-Peoples Legal Services, Inc | AZ | AZ-2 | 495,865
Community Legal Services, Inc | AZ | AZ-3 | 5,782,576
Southern Arizona Legal Aid, Inc | AZ | AZ-5 | 2,444,864
Community Legal Services, Inc | AZ | MAZ | 265,981
DNA-Peoples Legal Services, Inc | AZ | NAZ-5 | 3,069,799
Southern Arizona Legal Aid, Inc | AZ | NAZ-6 | 749,864
California Indian Legal Services, Inc | CA | CA-1 | 15,068
Inland Counties Legal Services, Inc | CA | CA-12 | 5,291,744
Legal Aid Society of San Diego, Inc | CA | CA-14 | 3,149,078
Community Legal Aid SoCal | CA | CA-19 | 4,249,790
Greater Bakersfield Legal Assistance, Inc | CA | CA-2 | 1,339,959
Central California Legal Services | CA | CA-26 | 3,389,841
Legal Services of Northern California, Inc | CA | CA-27 | 4,369,885
Bay Area Legal Aid | CA | CA-28 | 4,517,741
Legal Aid Foundation of Los Angeles | CA | CA-29 | 6,460,385
Neighborhood Legal Services of Los Angeles County | CA | CA-30 | 4,446,740
California Rural Legal Assistance, Inc | CA | CA-31 | 5,027,724
California Rural Legal Assistance, Inc | CA | MCA | 3,266,551
California Indian Legal Services, Inc | CA | NCA-1 | 1,039,347
Colorado Legal Services | CO | CO-6 | 4,707,931
Colorado Legal Services | CO | MCO | 270,545
Colorado Legal Services | CO | NCO-1 | 112,978
Statewide Legal Services of Connecticut, Inc | CT | CT-1 | 2,874,735
Pine Tree Legal Assistance, Inc | CT | NCT-1 | 18,418
Neighborhood Legal Services Program of the District of Columbia | DC | DC-1 | 969,740
Legal Services Corporation of Delaware, Inc | DE | DE-1 | 1,103,527
Maryland Legal Aid | DE | MDE | 16,765
Legal Services of North Florida, Inc | FL | FL-13 | 1,821,768
Three Rivers Legal Services, Inc | FL | FL-14 | 2,580,131
Community Legal Services of Mid-Florida, Inc | FL | FL-15 | 5,540,901
Bay Area Legal Services, Inc | FL | FL-16 | 4,060,516
Florida Rural Legal Services, Inc | FL | FL-17 | 4,310,042
Coast to Coast Legal Aid of South Florida, Inc | FL | FL-18 | 2,530,920
Legal Services of Greater Miami, Inc | FL | FL-5 | 3,949,696
Florida Rural Legal Services, Inc | FL | MFL | 697,923
Atlanta Legal Aid Society, Inc | GA | GA-1 | 3,961,668
Georgia Legal Services Program | GA | GA-2 | 9,081,041
Georgia Legal Services Program | GA | MGA | 346,800
Micronesian Legal Services Corporation | GU | GU-1 | 316,260
Legal Aid Society of Hawaii | HI | HI-1 | 1,337,054
Legal Aid Society of Hawaii | HI | NHI-1 | 269,479
Iowa Legal Aid | IA | IA-3 | 2,462,317
Iowa Legal Aid | IA | MIA | 419,334
Idaho Legal Aid Services, Inc | ID | ID-1 | 1,587,149
Idaho Legal Aid Services, Inc | ID | MID | 321,189
Idaho Legal Aid Services, Inc | ID | NID-1 | 76,429
Land of Lincoln Legal Aid, Inc | IL | IL-3 | 3,038,356
Legal Aid Chicago | IL | IL-6 | 6,377,812
Prairie State Legal Services, Inc | IL | IL-7 | 4,109,460
Legal Aid Chicago | IL | MIL | 323,122
Indiana Legal Services, Inc | IN | IN-5 | 7,448,875
Indiana Legal Services, Inc | IN | MIN | 237,455
Kansas Legal Services, Inc | KS | KS-1 | 2,968,550
Legal Aid of the Bluegrass | KY | KY-10 | 1,704,486
Legal Aid Society | KY | KY-2 | 1,349,310
Appalachian Research and Defense Fund of Kentucky | KY | KY-5 | 1,887,665
Kentucky Legal Aid | KY | KY-9 | 1,387,706
Southeast Louisiana Legal Services Corporation | LA | LA-13 | 3,804,863
Acadiana Legal Service Corporation | LA | LA-15 | 3,933,894
Community Legal Aid, Inc | MA | MA-10 | 1,684,918
Volunteer Lawyers Project of the Boston Bar Association | MA | MA-11 | 2,333,105
South Coastal Counties Legal Services | MA | MA-12 | 979,557
Northeast Legal Aid, Inc | MA | MA-4 | 1,035,425
Maryland Legal Aid | MD | MD-1 | 4,781,258
Maryland Legal Aid | MD | MMD | 63,650
Pine Tree Legal Assistance, Inc | ME | ME-1 | 1,168,982
Pine Tree Legal Assistance, Inc | ME | MMX-1 | 327,921
Pine Tree Legal Assistance, Inc | ME | NME-1 | 75,825
Michigan Advocacy Program | MI | MI-12 | 1,902,835
Lakeshore Legal Aid | MI | MI-13 | 4,979,833
Legal Services of Eastern Michigan | MI | MI-14 | 1,812,263
Legal Aid of Western Michigan | MI | MI-15 | 2,147,872
Legal Services of Northern Michigan, Inc | MI | MI-9 | 901,890
Michigan Advocacy Program | MI | MMI | 410,232
Michigan Indian Legal Services, Inc | MI | NMI-1 | 193,657
Southern Minnesota Regional Legal Services, Inc | MN | MMN | 362,222
Legal Aid Service of Northeastern Minnesota | MN | MN-1 | 446,927
Legal Services of Northwest Minnesota Corporation | MN | MN-4 | 391,046
Southern Minnesota Regional Legal Services, Inc | MN | MN-5 | 1,668,474
Central Minnesota Legal Services, Inc | MN | MN-6 | 1,696,618
Anishinabe Legal Services, Inc | MN | NMN-1 | 281,141
Legal Aid of Western Missouri | MO | MMO | 250,816
Legal Aid of Western Missouri | MO | MO-3 | 2,090,051
Legal Services of Eastern Missouri, Inc | MO | MO-4 | 2,184,990
Mid-Missouri Legal Services Corporation | MO | MO-5 | 490,771
Legal Services of Southern Missouri | MO | MO-7 | 2,003,535
Micronesian Legal Services Corporation | MP | MP-1 | 1,586,053
Mississippi Center for Legal Services | MS | MS-10 | 3,005,230
North Mississippi Rural Legal Services, Inc | MS | MS-9 | 1,861,862
Mississippi Center for Legal Services | MS | NMS-1 | 97,789
Montana Legal Services Association | MT | MMT | 136,584
Montana Legal Services Association | MT | MT-1 | 990,677
Montana Legal Services Association | MT | NMT-1 | 187,317
Legal Aid of North Carolina, Inc | NC | MNC | 488,943
Legal Aid of North Carolina, Inc | NC | NC-5 | 12,491,567
Legal Aid of North Carolina, Inc | NC | NNC-1 | 256,747
Southern Minnesota Regional Legal Services, Inc | ND | MND | 153,657
Legal Services of North Dakota | ND | ND-3 | 510,481
Legal Services of North Dakota | ND | NND-3 | 316,894
Legal Aid of Nebraska | NE | MNE | 287,165
Legal Aid of Nebraska | NE | NE-4 | 1,485,311
Legal Aid of Nebraska | NE | NNE-1 | 38,886
Legal Advice & Referral Center, Inc | NH | NH-1 | 850,456
South Jersey Legal Services, Inc | NJ | MNJ | 90,044
Legal Services of Northwest Jersey | NJ | NJ-15 | 520,467
Central Jersey Legal Services, Inc | NJ | NJ-17 | 1,416,993
Northeast New Jersey Legal Services Corporation | NJ | NJ-18 | 2,108,463
South Jersey Legal Services, Inc | NJ | NJ-20 | 2,566,667
Essex-Newark Legal Services Project, Inc | NJ | NJ-8 | 1,084,491
New Mexico Legal Aid | NM | MNM | 123,778
DNA-Peoples Legal Services, Inc | NM | NM-1 | 263,342
New Mexico Legal Aid | NM | NM-5 | 3,157,257
DNA-Peoples Legal Services, Inc | NM | NNM-2 | 26,728
New Mexico Legal Aid | NM | NNM-4 | 546,608
Nevada Legal Services, Inc | NV | NNV-1 | 156,432
Nevada Legal Services, Inc | NV | NV-1 | 3,388,798
Legal Aid Society of Mid-New York, Inc | NY | MNY | 314,689
Legal Services of the Hudson Valley | NY | NY-20 | 1,989,075
Legal Aid Society of Northeastern New York, Inc | NY | NY-21 | 1,476,951
Legal Aid Society of Mid-New York, Inc | NY | NY-22 | 1,895,435
Legal Assistance of Western New York, Inc | NY | NY-23 | 2,003,267
Neighborhood Legal Services, Inc | NY | NY-24 | 1,510,558
Nassau/Suffolk Law Services Committee, Inc | NY | NY-7 | 1,566,542
Legal Services NYC | NY | NY-9 | 13,259,862
Legal Aid of Western Ohio, Inc | OH | MOH | 290,602
Legal Aid Society of Greater Cincinnati | OH | OH-18 | 1,875,063
Community Legal Aid Services, Inc | OH | OH-20 | 2,177,934
The Legal Aid Society of Cleveland | OH | OH-21 | 2,650,122
Legal Aid of Western Ohio, Inc | OH | OH-23 | 3,105,423
Ohio State Legal Services | OH | OH-24 | 3,865,840
Legal Aid Services of Oklahoma, Inc | OK | MOK | 179,020
Oklahoma Indian Legal Services, Inc | OK | NOK-1 | 963,234
Legal Aid Services of Oklahoma, Inc | OK | OK-3 | 5,148,420
Legal Aid Services of Oregon | OR | MOR | 573,233
Legal Aid Services of Oregon | OR | NOR-1 | 217,167
Legal Aid Services of Oregon | OR | OR-6 | 4,172,910
Philadelphia Legal Assistance Center | PA | MPA | 230,050
Philadelphia Legal Assistance Center | PA | PA-1 | 3,431,877
Southwestern Pennsylvania Legal Services, Inc | PA | PA-11 | 455,022
Legal Aid of Southeastern Pennsylvania | PA | PA-23 | 1,462,515
North Penn Legal Services, Inc | PA | PA-24 | 2,182,692
MidPenn Legal Services, Inc | PA | PA-25 | 2,832,308
Northwestern Legal Services | PA | PA-26 | 800,062
Laurel Legal Services, Inc | PA | PA-5 | 733,231
Neighborhood Legal Services Association | PA | PA-8 | 1,535,374
Puerto Rico Legal Services, Inc | PR | MPR | 69,281
Puerto Rico Legal Services, Inc | PR | PR-1 | 12,657,509
Community Law Office, Inc | PR | PR-2 | 231,267
Rhode Island Legal Services, Inc | RI | RI-1 | 1,036,191
South Carolina Legal Services, Inc | SC | MSC | 166,572
South Carolina Legal Services, Inc | SC | SC-8 | 6,466,912
Dakota Plains Legal Services, Inc | SD | NSD-1 | 1,098,419
East River Legal Services | SD | SD-2 | 461,315
Dakota Plains Legal Services, Inc | SD | SD-4 | 501,191
Legal Aid Society of Middle Tennessee and the Cumberlands | TN | TN-10 | 3,347,711
Memphis Area Legal Services, Inc | TN | TN-4 | 1,661,056
West Tennessee Legal Services, Inc | TN | TN-7 | 765,560
Legal Aid of East Tennessee | TN | TN-9 | 2,703,092
Texas RioGrande Legal Aid, Inc | TX | MSX-2 | 2,081,141
Texas RioGrande Legal Aid, Inc | TX | NTX-1 | 36,819
Lone Star Legal Aid | TX | TX-13 | 12,888,876
Legal Aid of NorthWest Texas | TX | TX-14 | 9,794,740
Texas RioGrande Legal Aid, Inc | TX | TX-15 | 12,318,247
Utah Legal Services, Inc | UT | MUT | 99,574
Utah Legal Services, Inc | UT | NUT-1 | 96,783
Utah Legal Services, Inc | UT | UT-1 | 2,516,704
Central Virginia Legal Aid Society, Inc | VA | MVA | 200,938
Southwest Virginia Legal Aid Society, Inc | VA | VA-15 | 928,630
Legal Aid Society of Eastern Virginia | VA | VA-16 | 1,682,317
Virginia Legal Aid Society, Inc | VA | VA-17 | 865,389
Central Virginia Legal Aid Society, Inc | VA | VA-18 | 1,404,007
Blue Ridge Legal Services, Inc | VA | VA-19 | 922,443
Legal Services of Northern Virginia, Inc | VA | VA-20 | 1,711,145
Legal Services of the Virgin Islands, Inc | VI | VI-1 | 208,408
Legal Services Vermont | VT | VT-1 | 558,386
Northwest Justice Project | WA | MWA | 757,981
Northwest Justice Project | WA | NWA-1 | 335,121
Northwest Justice Project | WA | WA-1 | 6,318,864
Legal Action of Wisconsin, Inc | WI | MWI | 428,697
Wisconsin Judicare, Inc | WI | NWI-1 | 182,487
Wisconsin Judicare, Inc | WI | WI-2 | 1,081,437
Legal Action of Wisconsin, Inc | WI | WI-5 | 4,132,260
Legal Aid of West Virginia, Inc | WV | WV-5 | 2,966,918
Legal Aid of Wyoming, Inc | WY | NWY-1 | 203,288
Legal Aid of Wyoming, Inc | WY | WY-4 | 565,108

These grants will be awarded under the authority conferred on LSC by section 1006(a)(1) of the Legal Services Corporation Act, 42 U.S.C. 2996e(a)(l). Grant awards are made to ensure civil legal services are provided in every service area, although no listed organization is guaranteed a grant award. Grants will become effective, and grant funds will be distributed, on or about January 1, 2021.

LSC issues this notice pursuant to 42 U.S.C. 2996f(f). Comments and recommendations concerning potential grantees are invited and should be delivered to LSC within 30 days from the date of publication of this notice.

Dated: October 30, 2020.
Stefanie Davis,
Senior Assistant General Counsel.

[FR Doc. 2020-24513 Filed 11-4-20; 8:45 am]

BILLING CODE 7050-01-P